DEPARTMENT OF THE INTERIOR

National Park Service

[N6333; NPS-WASO-NAGPRA-NPS0040522; PPWOCRADN0-PCU00RP14.R50000]

Notice of Inventory Completion: County of Sacramento, Sacramento, CA

AGENCY: National Park Service, Interior.

ACTION: Notice.

SUMMARY: In accordance with the Native American Graves Protection and Repatriation Act (NAGPRA), the County of Sacramento has completed an inventory of associated funerary objects and has determined that there is a cultural affiliation between the associated funerary objects and Indian Tribes or Native Hawaiian organizations in this notice.

DATES: Repatriation of the associated funerary objects in this notice may occur on or after August 27, 2025.

ADDRESSES: Send written requests for repatriation of the associated funerary objects in this notice to Candise Vogel, Sacramento County Office of Planning and Environmental Review, 827 7th Street #225, Sacramento, CA 95814, email vogelca@saccounty.gov.

SUPPLEMENTARY INFORMATION: This notice is published as part of the National Park Service's administrative responsibilities under NAGPRA. The determinations in this notice are the sole responsibility of the County of Sacramento and additional information on the determinations in this notice, including the results of consultation, can be found in its inventory or related records. The National Park Service is not responsible for the determinations in this notice.

Abstract of Information Available

Associated funerary objects were removed from CA-SAC-237 (also known as the Chatterson site) in Sacramento County, CA. The associated funerary objects came into the possession of the County of Sacramento during a road expansion project in 2006. Occupation of the site is estimated to have occurred during approximately 2,500 to 1,500 BP with an additional historic period occupation. The 936 associated funerary objects include 820 flaked stone, 102 faunal remains, four floral remains, and 10 historic items. Of this number at least 68 artifacts are currently missing from the collection. The County of Sacramento continues to look for all missing objects.

Cultural Affiliation

Based on the information available and the results of consultation, cultural affiliation is clearly identified by the information available about the associated funerary objects described in this notice.

Determinations

The County of Sacramento has determined that:

• The 936 objects described in this notice are reasonably believed to have been placed intentionally with or near individual human remains at the time of death or later as part of the death rite or ceremony.

• There is a connection between the associated funerary objects described in this notice and the Buena Vista Rancheria of Me-Wuk Indians of California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after August 27, 2025. If competing requests for repatriation are received, the County of Sacramento must determine the most appropriate requestor prior to repatriation. Requests for joint repatriation of the associated funerary objects are considered a single request and not competing requests. The County of Sacramento is responsible for sending a copy of this notice to the Indian Tribes and Native Hawaiian organizations identified in this notice and any other consulting parties.

Authority: Native American Graves Protection and Repatriation Act, 25 U.S.C. 3003, and the implementing regulations, 43 CFR 10.10.

Dated: July 1, 2025.
Melanie O'Brien,
Manager, National NAGPRA Program.

[FR Doc. 2025-14163 Filed 7-25-25; 8:45 am]

BILLING CODE 4312-52-P